DEPARTMENT OF VETERANS AFFAIRS

[OMB Control No. 2900-0773]

Agency Information Collection Activity: Veterans' Health Benefits Handbook Questionnaire

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 23, 2017.

ADDRESSES: Submit written comments on the collection of information through Federal Docket Management System (FDMS) at www.Regulations.gov or to Brian McCarthy, Veterans Health Administration, Office of Regulatory and Administrative Affairs (10B4), Department of Veterans Affairs, 810 Vermont Avenue NW., Washington, DC 20420 or email to Brian.McCarthy4@va.gov. Please refer to “OMB Control No. 2900-0773” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: EO 12862.

Title: Veterans' Health Benefits Handbook Questionnaire—VA Form 10-0507.

OMB Control Number: 2900-0773.

Type of Review: Extension of a currently approved collection.

Abstract: The Veterans' Health Benefits Handbook is available to all enrolled Veterans. The Handbook contains general eligibility and benefits information and most importantly, information specific to the Veteran. VHA seeks approval for this collection to provide Veterans an opportunity to provide anonymous feedback on the content and presentation of the material contained in the Handbook. VHA will use the information gathered to determine how well the Handbook meets Veterans' needs and make changes to the Handbook where needed. This voluntary survey will not be used as a substitute for traditional program evaluation surveys that measure objective outcomes. To maximize the voluntary response rates, the information collection will be designed to foster convenient, simple and barrier free participation. The data collected will consist of the minimum amount of information necessary to determine customer satisfaction. The areas of concern to VHA and its customers change rapidly and it is essential to have the ability to evaluate customer concerns in a timely manner.

Affected Public: Individuals and households.

Estimated Annual Burden: 135 hours.

Estimated Average Burden per Respondent: 5 minutes.

Frequency of Response: Annually.

Estimated Number of Respondents: 1,060.

By direction of the Secretary.
Cynthia Harvey-Pryor,
Department Clearance Officer, Office of Quality and Compliance, Department of Veterans Affairs.

[FR Doc. 2017-17811 Filed 8-22-17; 8:45 am]

BILLING CODE 8320-01-P